DEPARTMENT OF LABOR

Employment and Training Administration

[TA-W-85,642]

Metlife Group, Inc., EI&A Service Management Group, Clarks Summit, Pennsylvania; Notice of Affirmative Determination Regarding Application for Reconsideration

By application dated January 28, 2015 a worker requested requested administrative reconsideration of the negative determination regarding workers' eligibility to apply for worker adjustment assistance applicable to workers and former workers of Metlife Group, Inc., EI&A Service Management Group, Clarks Summit, Pennsylvania. The determination was issued on December 22, 2014 and the Notice of Determination was published in the Federal Register on January 23, 2015 (80 FR 3655).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The initial investigation resulted in a negative determination based on the findings that subject firm does not produce an article within the meaning of Section 222(a) or Section 222(b) of the Trade Act of 1074, as amended.

The request for reconsideration asserts that the subject worker group designed, built and maintained data models.

The Department of Labor has carefully reviewed the request for reconsideration and the existing record, and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 26th day of March, 2015.
Michael W. Jaffe,
Certifying Officer, Office of Trade Adjustment Assistance.

[FR Doc. 2015-09655 Filed 4-24-15; 8:45 am]

BILLING CODE 4510-FN-P